ENVIRONMENTAL PROTECTION AGENCY

[FRL-10893-01-R5]

Clean Air Act Operating Permit Program; Petition for Objection to State Operating Permit for Waelz Sustainable Products, LLC, Cass County, Indiana

AGENCY: Environmental Protection Agency (EPA).

ACTION: Notice of final Order on petition for objection to a Clean Air Act Title V operating permit.

SUMMARY: The Environmental Protection Agency (EPA) Administrator signed an Order dated March 14, 2023, denying an August 6, 2021, Petition from Cass County Citizens Coalition (the Petitioner). The Petition requested that EPA object to a Clean Air Act (CAA) title V operating permit issued by the Indiana Department of Environmental Management (IDEM), to Waelz Sustainable Products, LLC (WSP), located in Cass County, Indiana.

ADDRESSES: The final Order, the Petition, and other supporting information are available for public inspection during normal business hours at the following address: Environmental Protection Agency, Region 5, Air and Radiation Division, 77 West Jackson Boulevard, Chicago, Illinois 60604. This facility is open from 8:30 a.m. to 4:30 p.m., Monday through Friday, excluding Federal holidays and facility closures due to COVID-19. We recommend that you contact the individual listed in the FOR FURTHER INFORMATION CONTACT section before visiting the Region 5 office. Additionally, the final Order and Petition are available electronically at: https://www.epa.gov/title-v-operating-permits/title-v-petition-database.

FOR FURTHER INFORMATION CONTACT: Paymon Danesh, Air Permits Section, Air Programs Branch (AR-18J), Environmental Protection Agency, Region 5, 77 West Jackson Boulevard, Chicago, Illinois 60604, (312) 886-6219, danesh.paymon@epa.gov.

SUPPLEMENTARY INFORMATION: Throughout this document whenever “we,” “us,” or “our” is used, we mean EPA.

The CAA affords EPA a 45-day period to review and object to, as appropriate, operating permits proposed by state permitting authorities under title V of the CAA. Section 505(b)(2) of the CAA authorizes any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or unless the grounds for the issues arose after this period.

EPA received the August 6, 2021, Petition from the Petitioner requesting that EPA object to the issuance of operating permit no. 017-42728-00056 issued by IDEM to WSP. The Petition alleged that: (1) the permit is unlawful because WSP is a secondary metal production plant subject to the Prevention of Significant Deterioration Program; (2) the permit is unlawful for not including a specific timeframe for restoring normal operation of bag leak detection systems after a malfunction or repair; (3) the permit is unlawful because it relies on deficient and erroneous calculations; (4) the permit is unlawful because it fails to assure continuous compliance with emission limitations; and (5) the permit is unlawful because its issuance violated public participation requirements.

On March 14, 2023, the EPA Administrator issued an Order denying the Petition. The Order explains the basis for EPA's decision.

Sections 307(b) and 505(b)(2) of the CAA provide that a petitioner may request judicial review of those portions of an order that deny issues in a petition. Any petition for review of the Administrator's March 14, 2023, Order shall be filed in the United States Court of Appeals for the appropriate circuit no later than June 20, 2023.

Authority: 42 U.S.C. 7401 et seq.

Dated: April 17, 2023.
Debra Shore,
Regional Administrator, Region 5.

[FR Doc. 2023-08482 Filed 4-20-23; 8:45 am]

BILLING CODE 6560-50-P